NUCLEAR REGULATORY COMMISSION

[Docket No. 40-08838]

Notice of Withdrawal of License Amendment Request From the Department of the Army, U.S. Army Garrison, Rock Island Arsenal, Rock Island, IL

AGENCY: Nuclear Regulatory Commission.

ACTION: Notice of withdrawal of license amendment request by the Department of the Army (Army or licensee) for its Jefferson Proving Ground (JPG) site.

FOR FURTHER INFORMATION CONTACT: Tom McLaughlin, Project Manager, Decommissioning Directorate, Division of Waste Management and Environmental Protection, Office of Nuclear Material Safety and Safeguards, U.S. Nuclear Regulatory Commission, Washington, DC 20555-0001; Telephone: (301) 415-5869; fax number: (301) 415-5398; e-mail: tgm@nrc.gov.

SUPPLEMENTARY INFORMATION:

I. Introduction

On September 22, 2003, the Nuclear Regulatory Commission (NRC) Staff received a request from the Army for a license amendment that would create a 5-year renewable possession-only license (5-year POLA) for its JPG site. On October 28, 2003, the NRC Staff published a Notice of Consideration of Amendment Request for the Jefferson Proving Ground Site and Opportunity for a Hearing in the Federal Register. On May 25, 2005, the Army submitted a superseding license amendment request for an alternate schedule (alternate schedule request) for decommissioning JPG. On June 16, 2005, the Staff accepted the alternate schedule request for review. On June 27, 2005, the Staff published A Notice of Consideration of Amendment Request for an Alternate Decommissioning Schedule and Opportunity to Request a Hearing in the Federal Register. On July 19, 2005, the Army formally withdrew its request for a 5-year POLA for JPG. Thus, the Staff has discontinued its review of the 5-year POLA.

II. Further Information

Documents related to this action, including the withdrawal letter for the 5-year POLA and supporting documentation, are available electronically at the NRC's Electronic Reading Room at http://www.nrc.gov/reading-rm/adams.html. From this site, you can access the NRC's Agency wide Document Access and Management System (ADAMS), which provides text and image files of NRC's public documents. The ADAMS accession numbers for the documents related to this notice are: ML032731017 for the September 2003 request from the Army; ML032930189 for the NRC Federal Register notice for this action; ML051520319 for the Army's May 2005 request for an alternate decommissioning schedule; ML051640102 for the Staff's June 2005 acceptance of the Army's request for review; ML051660038 for the June 2005 NRC Federal Register notice; and ML052130480 for the July 2005 withdrawal letter from the Army. If you do not have access to ADAMS or if there are problems in accessing the documents located in ADAMS, contact the NRC Public Document Room PDR Reference staff at 1-800-397-4209, 301-415-4737, or by e-mail to pdr@nrc.gov.

These documents may also be viewed electronically on the public computers located at the NRC's PDR, located in O-1 F21, One White Flint North, 11555 Rockville Pike, Rockville, MD 20852. The PDR reproduction contractor will copy documents for a fee.

Dated at Rockville, Maryland, this 19th day of August, 2005.
For the Nuclear Regulatory Commission.
Daniel M. Gillen,
Deputy Director Division of Waste Management and Environment, Office of Nuclear Material Safety and Safeguards.

[FR Doc. E5-4685 Filed 8-25-05; 8:45 am]

BILLING CODE 7590-01-P